DEPARTMENT OF COMMERCE

International Trade Administration

[A-423-808, A-475-822, A 580-831, A-791-805, A-583-830, C-423-809, C-475-823, C-791-806]

Continuation of Antidumping Duty Orders on Certain Stainless Steel Plate in Coils From Belgium, Italy, South Korea, South Africa, and Taiwan, and the Countervailing Duty Orders on Certain Stainless Steel Plate in Coils From Belgium, Italy, and South Africa

AGENCY: Import Administration, International Trade Administration, Department of Commerce.

SUMMARY: As a result of the determinations by the Department of Commerce (“the Department”) and the International Trade Commission (“ITC”) that revocation of the antidumping duty orders on certain stainless steel plate from Belgium, Italy, South Korea, South Africa, and Taiwan, and the countervailing duty orders on Belgium, Italy, and South Africa would likely lead to continuation or recurrence of dumping and countervailable subsidies, and material injury to an industry in the United States, the Department is publishing notice of continuation of these antidumping and countervailing duty orders.

EFFECTIVE DATE: July 18, 2005.

FOR FURTHER INFORMATION CONTACT: Martha V. Douthit or Dana Mermelstein, AD/CVD Operations, Office 6, Import Administration, International Trade Administration, U.S. Department of Commerce, 14th Street and Constitution Avenue, NW., Washington, DC 20230; telephone: (202) 482-5050 or (202) 482-1391, respectively.

SUPPLEMENTARY INFORMATION:

Scope of the Orders

The product covered by these orders is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars. The merchandise subject to these orders is currently classifiable in the Harmonized Tariff Schedule of the United States (“HTS”) at subheadings: 7219.11.00.30, 7219.11.00.60, 7219.12.00.05, 7219.12.00.20, 7219.12.00.25, 7219.12.00.50, 7219.12.00.55, 7219.12.00.65, 7219.12.00.70, 7219.12.00.80, 11521 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and Customs purposes, the written description of the merchandise subject to these orders is dispositive.

This scope language reflects the March 11, 2003, amendment of the antidumping and countervailing duty orders and suspension of liquidation which the Department implemented in accordance with the Court of International Trade decision in Allegheny Ludlum v. United States, Slip Op. 02-147 (Dec. 12, 2002). See also Notice of Amended Antidumping Duty Orders; Certain Stainless Steel Plate in Coils from Belgium, Canada, Italy, the Republic of Korea, South Africa, and Taiwan, 68 FR 11520 (March 11, 2003), and Notice of Amended Coutervailing Duty Orders; Certain Stainless Steel Plate in Coils from Belgium, Italy, and South Africa, 68 FR 11524 (March 11, 2003).

Background

On April 1, 2004, the Department initiated and the ITC instituted sunset reviews of the antidumping duty orders on certain stainless steel plate in coils from Belgium, Italy, South Korea, South Africa, and Taiwan, and the countervailing duty orders on certain stainless steel plate in coils from Belgium, Italy, and South Africa, pursuant to section 751(c) of the Tariff Act of 1930, as amended (“the Act”).¹

¹ See Initiation of Five-Year (“Sunset”) Reviews, 69 FR 17129 (April 1, 2004), and ITC Investigation Nos. 701-TA-376, 377, & 379 and 731-TA-788-793 (Review), 70 FR 38710 (July 5, 2005).

As a result of its review, the Department found that revocation of the antidumping and countervailing duty orders would likely lead to continuation or recurrence of dumping and countervailable subsidies, and notified the ITC of the magnitude of the margins and the net countervailable subsidies likely to prevail were the orders to be revoked.² On July 5, 2005, the ITC determined pursuant to section 751(c) of the Act, that revocation of the antidumping duty orders on certain stainless steel plate in coils from Belgium, Italy, South Korea, South Africa, and Taiwan, and the countervailing duty orders on certain stainless steel plate in coils from Belgium, Italy, and South Africa would likely lead to continuation or recurrence of material injury to an industry in the United States within a reasonably foreseeable time.³

² See Stainless Steel Plate in Coils from Canada, South Africa, and Taiwan, Notice of Expedited Sunset Review: Final Results, 69 FR 47416 (August 5, 2004), Stainless Steel Plate in Coils from Belgium, Italy, and the Republic of Korea; Notice of Final Results of Expedited Sunset Review of Antidumping Duty Orders; 69 FR 61798 (October 21, 2004), Stainless Steel Plate in Coils from Belgium; Final Results of Expedited Sunset Review of Countervailing Duty Order, 69 FR 64277 (November 4, 2004), Stainless Steel Plate in Coils from Italy, Final Result of Full Sunset Review of Countervailing Duty Order, 70 FR 10357 (March 3, 2005), Stainless Steel Plate in Coils from South Africa, Final Result of Expedited Sunset Review, 69 FR 47418 (August 5, 2004).

³ See Certain Stainless Steel Plate from Belgium, Canada, Italy, Korea, South Africa, and Taiwan, 70 FR 38710 (July 5, 2005), and USITC Publication 3784, Investigation Nos. 701-TA-376, 377, & 379 and 731-TA-788-793 (Review).

Determination

As a result of the determinations by the Department and the ITC that revocation of these antidumping and countervailing duty orders would likely lead to continuation or recurrence of dumping and countervailable subsidies, and material injury to an industry in the United States, pursuant to section 751(d)(2) of the Act, the Department hereby orders the continuation of the antidumping duty orders on certain stainless steel plate in coils from Belgium, Italy, South Korea, South Africa, and Taiwan, and countervailing duty orders on certain stainless steel plate in coils from Belgium, Italy, and South Africa.

The Department will notify U.S. Customs and Border Protection (“CBP”) to continue to collect antidumping and countervailing duty cash deposits at the rates in effect at the time of entry for all imports of subject merchandise.

The effective date of continuation of these orders will be the date of publication in the Federal Register of this Notice of Continuation. Pursuant to section 751(c)(2) of the Act, the Department intends to initiate the next five-year review of these orders not later than June 2010.

These five-year (sunset) reviews and notice are in accordance with sections 751(c) and 777(i)(1) of the Act.

Susan H. Kuhbach,
Acting Assistant Secretary for Import Administration.

[FR Doc. E5-3807 Filed 7-15-05; 8:45 am]

BILLING CODE 3510-DS-P